DEPARTMENT OF TRANSPORTATION

National Highway Traffic Safety Administration

[Docket No. NHTSA 2004-17901; Notice 2]

Yokohama Tire Corporation, Grant of Petition for Decision of Inconsequential Noncompliance

Yokohama Tire Corporation (Yokohama) has determined that certain tires it manufactured in 2002 do not comply with S6.5(d) of 49 CFR 571.119, Federal Motor Vehicle Safety Standard (FMVSS) No. 119, “New pneumatic tires for vehicles other than passenger cars.” Pursuant to 49 U.S.C. 30118(d) and 30120(h), Yokohama Tire Corporation on behalf of Yokohama Rubber Co., Ltd. has petitioned for a determination that this noncompliance is inconsequential to motor vehicle safety and has filed an appropriate report pursuant to 49 CFR Part 573, “Defect and Noncompliance Reports.” Notice of receipt of the petition was published in the Federal Register on June 3, 2004 (69 FR 31452), with a 30-day comment period. NHTSA received no comments.

Yokohama Rubber Co., Ltd. produced size 185R14 8PR Y356 light truck tires during 2002 whose load range is “D” but are incorrectly labeled on the tire sidewall as having a load range “C,” adjacent to the correct ply rating “8PR.” Therefore, they do not comply with FMVSS No. 119 S6.5(d), which requires that “each tire shall be marked on each sidewall with * * * (d) The maximum load rating and corresponding inflation pressure of the tire.” Although 424 tires were manufactured with the incorrect load range label, 294 of the tires were found and quarantined to prevent sales and distribution. However, 130 tires are unaccounted for and are considered distributed and sold into the United States market. It is these 130 tires that are the subject of this petition.

Yokohama believes that the noncompliance is inconsequential to motor vehicle safety and that no corrective action is warranted. Yokohama states that reliance upon the misbranding of load range “C” would not pose any threat to motor vehicle safety since the tires' actual carrying capability by specification is load range “D.” Thus, the tires' true capability exceeds that of a load range “C” tire.

The agency agrees with Yokohama's statement that the incorrect markings do not present a serious safety concern. There is no effect of the noncompliance on the operational safety of vehicles on which these tires are mounted, since the tires' actual carrying capacity is greater than the load range labeled on the tires. In addition, the tires are certified to meet all the performance requirements of FMVSS No. 119 and all other informational markings as required by FMVSS No. 119 are present. Yokohama has corrected the problem.

In consideration of the foregoing, NHTSA has decided that the petitioner has met its burden of persuasion that the noncompliance described is inconsequential to motor vehicle safety. Accordingly, Yokohama's petition is granted and the petitioner is exempted from the obligation of providing notification of, and a remedy for, the noncompliance.

Authority: (49 U.S.C. 30118, 30120; delegations of authority at CFR 1.50 and 501.8).

Issued on: July 22, 2004.
Kenneth N. Weinstein,
Associate Administrator for Enforcement.

[FR Doc. 04-17108 Filed 7-27-04; 8:45 am]

BILLING CODE 4910-59-P